DEPARTMENT OF DEFENSE

Office of the Secretary of Defense

[DoD-2008-OS-0008]

Privacy Act of 1974; Systems of Records

AGENCY: Defense Logistics Agency, DOD.

ACTION: Notice to Delete Two Systems of Records.

SUMMARY: The Defense Logistics Agency is deleting two systems of records notices to its existing inventory of record systems subject to the Privacy Act of 1974 (5 U.S.C. 552a), as amended.

DATES: This action will be effective without further notice on March 12, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: February 5, 2008.
L.M. Bynum,
Alternate OSD Federal Register Liaison Officer, Department of Defense.

DMDC 09

System name:

Archival Purchase Card File (January 31, 2008, 73 FR 5819).

Reason:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 09, Archival Purchase Card File on January 31, 2008, 73 FR 5819; DLA is deleting this notice from its Privacy Act systems of records inventory.

DMDC 10

System name:

Defense Biometric Identification Data System (DBIDS) (January 31, 2008, 73 FR 5818).

Reason:

The Defense Manpower Data Center (DMDC) no longer receives Privacy Act program support from the Defense Logistics Agency (DLA). DMDC will receive privacy support from the Office of the Secretary of Defense (OSD) under Administrative Instruction 81. The above system notice was transferred to the OSD's inventory of Privacy Act systems of records as DMDC 10, Defense Biometric Identification Data System (DBIDS) on January 31, 2008, 73 FR 5818; therefore, DLA is deleting this notice from its Privacy Act systems of records inventory.

[FR Doc. E8-2496 Filed 2-8-08; 8:45 am]

BILLING CODE 5001-06-P